DEPARTMENT OF THE INTERIOR

National Park Service

[2253-665]

Notice of Inventory Completion: University of Colorado Museum, Boulder, CO

AGENCY: National Park Service, Interior.

ACTION: Notice.

SUMMARY: The University of Colorado Museum has completed an inventory of human remains and associated funerary objects, in consultation with the appropriate Indian tribes, and has determined that there is no cultural affiliation between the remains and any present-day Indian tribe. Representatives of any Indian tribe that believes itself to be culturally affiliated with the human remains and associated funerary objects may contact the University of Colorado Museum. Disposition of the human remains and associated funerary objects to the Indian tribe stated below may occur if no additional requestors come forward.

DATES: Representatives of any Indian tribe that believes it has a cultural affiliation with the human remains and associated funerary objects should contact the University of Colorado Museum at the address below by April 14, 2011.

ADDRESSES: Steve Lekson, Curator of Anthropology, University of Colorado Museum, in care of Jan Bernstein, NAGPRA Consultant, Bernstein & Associates, 1041 Lafayette St., Denver, CO 80218, telephone (303) 894-0648.

SUPPLEMENTARY INFORMATION: Notice is here given in accordance with the Native American Graves Protection and Repatriation Act (NAGPRA), 25 U.S.C. 3003, of the completion of an inventory of human remains and associated funerary objects in the possession of the University of Colorado Museum, Boulder, CO. The human remains and associated funerary objects were removed from Catron, Grant, Lea, and Otero Counties, NM.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by University of Colorado Museum professional staff in consultation with representatives of the Fort Sill Apache Tribe of Oklahoma; Hopi Tribe of Arizona; Mescalero Apache Tribe of the Mescalero Reservation, New Mexico; Pueblo of Acoma, New Mexico; Pueblo of Laguna, New Mexico; Pueblo of Zia, New Mexico; San Carlos Apache of the San Carlos Reservation, Arizona; White Mountain Apache Tribe of the Fort Apache Reservation, Arizona; and Zuni Tribe of the Zuni Reservation, New Mexico. There are no objections by the Indian tribes whose aboriginal lands are within Catron, Grant, Lea, and Otero Counties, NM, and all tribes agree to the disposition of the human remains and associated funerary objects to the Pueblo of Acoma, New Mexico.

History and Description of the Remains

In 1962, human remains representing a minimum of one individual were removed from Catron County, NM, by an unknown individual. No known individual was identified. No associated funerary objects are present.

The remains of this individual are five teeth. At least one tooth suggests the use of teeth as tools and is consistent with an archeological Native American diet. The remains may have been removed from the Gila National Forest or the Gila Cliff Dwellings National Monument both of which are within Catron County, but due to lack of sufficient evidence, the U.S. Department of Agriculture, Forest Service, deferred NAGPRA compliance responsibility to the University of Colorado Museum.

On an unknown date, human remains representing a minimum of one individual were removed from Silver City, Grant County, NM, by an unknown individual. No known individual was identified. No associated funerary objects are present.

The remains of this individual are two teeth. The morphology of one tooth and the wear of at least one tooth are consistent with an archeological Native American diet. In 1901, the remains were purchased by Jesse H. Sherman, in Silver City, NM. In 1939, the remains were donated to the museum by Mrs. J.H. Sherman.

On an unknown date, human remains representing a minimum of one individual were removed from the Tomas Dominquez Ranch, three quarters of a mile north of Gila, Grant County, NM, by Mrs. Marilyn Moore. No known individual was identified. The three associated funerary objects are a ceramic bowl, a ceramic jar, and one lot of stone flakes.

The ceramic jar contains lightly charred/burned bones, as well as a handful of bone dust, and the stone flakes. The bowl was the lid for the ceramic jar and is decorated with a brown and white geometric design. The remains are Mogollon based on the associated funerary objects. The human remains and associated funerary objects were bequeathed to the museum in January 1974.

On an unknown date, human remains representing a minimum of one individual were removed from 29LE1, Lea County, NM, by an unknown individual. No known individual was identified. The three associated funerary objects are one lot of shell beads, a projectile point, and a possible pendant made of stone or a marine-type of material.

The remains are three teeth. The remains are likely Native American based on the morphology of one tooth, as well as the associated funerary objects and the archeological context. 29LE1 has been identified as Jornada Mogollon. The human remains and associated funerary objects were found in the museum collection on November 6, 2007, during an inventory/computerization project.

In 1960, human remains representing a minimum of one individual were removed from 29OT3 (Hatchet Site), Tularosa Basin, Otero County, NM, by Eugene McCluney. No known individual was identified. No associated funerary objects are present.

The remains are Native American based on the archeological site context. 29OT3 has been identified as Jornada Mogollon. McCluney excavated the remains as a part of his graduate work at the University of Colorado. The remains were transferred to the museum in 1960.

Determinations Made by the University of Colorado Museum

Officials of the University of Colorado Museum have determined that:

• Pursuant to 25 U.S.C. 3001(2), a relationship of shared group identity cannot be reasonably traced between the Native American human remains and associated funerary objects and any present-day Indian tribe.

• According to Indian Land Claims Commission decisions, as well as oral tradition, Catron, Grant, Lea, and Otero Counties, NM, are within the aboriginal land of the Fort Sill Apache Tribe of Oklahoma and the Mescalero Apache Tribe of the Mescalero Reservation, New Mexico.

• Based on oral tradition, Catron, Grant, Lea, and Otero Counties, NM, are within the aboriginal land of the Hopi Tribe of Arizona; Pueblo of Acoma, New Mexico; Pueblo of Laguna, New Mexico; Pueblo of Zia, New Mexico; White Mountain Apache Tribe of the Fort Apache Reservation, Arizona; and Zuni Tribe of the Zuni Reservation, New Mexico.

• Based on oral tradition of the San Carlos Apache of the San Carlos Reservation, Arizona, Catron, Grant, Lea, and Otero Counties, NM, were aboriginal gathering places for them, but these counties are the aboriginal land of the Chiricahua (Fort Sill Apache Tribe of Oklahoma and the Mescalero Apache Tribe of the Mescalero Reservation, New Mexico).

• Pursuant to 25 U.S.C. 3001(9), the human remains described above represent the physical remains of five individuals of Native American ancestry.

• Pursuant to 25 U.S.C. 3001(3)(A), the six objects described above are reasonably believed to have been placed with or near individual human remains at the time of death or later as part of the death rite or ceremony.

• Pursuant to 43 CFR 10.11(c)(1), the disposition of the human remains and associated funerary objects is to the Pueblo of Acoma, New Mexico.

Additional Requestors and Disposition

Representatives of any Indian tribe that believes itself to be culturally affiliated with the human remains and associated funerary objects or any other Indian tribe that believes it satisfies the criteria in 43 CFR 10.11(c)(1) should contact Steve Lekson, Curator of Anthropology, University of Colorado Museum, in care of Jan Bernstein, NAGPRA Consultant, Bernstein & Associates, 1041 Lafayette St., Denver, CO 80218, telephone (303) 894-0648, before April 14, 2011. Disposition of the human remains and associated funerary objects to the Pueblo of Acoma, New Mexico, may proceed after that date if no additional claimants come forward.

The University of Colorado Museum is responsible for notifying the Fort Sill Apache Tribe of Oklahoma; Hopi Tribe of Arizona; Mescalero Apache Tribe of the Mescalero Reservation, New Mexico; Pueblo of Acoma, New Mexico; Pueblo of Laguna, New Mexico; Pueblo of Zia, New Mexico; San Carlos Apache of the San Carlos Reservation, Arizona; White Mountain Apache Tribe of the Fort Apache Reservation, Arizona; and Zuni Tribe of the Zuni Reservation, New Mexico, that this notice has been published.

Dated: March 9, 2011.
Sherry Hutt,
Manager, National NAGPRA Program.

[FR Doc. 2011-5853 Filed 3-14-11; 8:45 am]

BILLING CODE 4312-50-P